DEPARTMENT OF COMMERCE

Bureau of Industry and Security

15 CFR Part 738

[Docket No. 230815-0195]

RIN 0694-AJ25

Expansion of Nuclear Nonproliferation Controls on the People's Republic of China and Macau; Correction

AGENCY: Bureau of Industry and Security, Commerce.

ACTION: Correcting amendment.

SUMMARY: The Bureau of Industry and Security (BIS) is correcting a final rule, Expansion of Nuclear Nonproliferation Controls on the People's Republic of China and Macau, that appeared in the Federal Register on August 14, 2023. That rule intended to amend the Export Administration Regulations (EAR) by adding additional nuclear nonproliferation controls on China and Macau. There was an inadvertent error in one of the regulatory instructions for that rule; this final rule corrects that inadvertent error.

DATES: Effective August 17, 2023, and applicable beginning August 11, 2023.

FOR FURTHER INFORMATION CONTACT: Logan Norton, Regulatory Policy Division, RPD2@bis.doc.gov, (202) 482-2440.

SUPPLEMENTARY INFORMATION: This is a summary of the erratum, published in the Federal Register of Monday, August 14, 2023 (88 FR 54875). This is the first set of corrections.

The regulatory text of 88 FR 54875 became enforceable as of August 11, 2023.

List of Subjects in 15 CFR Part 738

Exports.

Accordingly, 15 CFR part 738 is corrected by making the following correcting amendments:

PART 738—COMMERCE CONTROL LIST OVERVIEW AND THE COUNTRY CHART

1. The authority citation for part 738 continues to read as follows:

Authority: 50 U.S.C. 4801-4852; 50 U.S.C. 4601 et seq.; 50 U.S.C. 1701 et seq.; 10 U.S.C. 8720; 10 U.S.C. 8730€; 22 U.S.C. 287c; 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

2. In supplement no. 1 to part 738, the table is amended by revising the entries for China and Macau. The revisions read as follows:

Commerce Country Chart
[Reason for control]
Countries: CB 1 | Chemical & biological weapons: CB 2 | Chemical & biological weapons: CB 3 | Nuclear nonproliferation: NP 1 | Nuclear nonproliferation: NP 2 | National security: NS 1 | National security: NS 2 | Missile tech: MT 1 | Regional stability: RS 1 | Regional stability: RS 2 | Firearms convention: FC 1 | Crime control: CC 1 | Crime control: CC 2 | Crime control: CC 3 | Anti-terrorism: AT 1 | Anti-terrorism: AT 2
* * * * * * *
China | X | X | X | X | X | X | X | X | X | X |  | X |  | X |
* * * * * * *
Macau | X | X | X | X | X | X | X | X | X | X |  | X |  | X |
* * * * * * *

* * * * *

Matthew S. Borman,
Deputy Assistant Secretary for Export Administration.

[FR Doc. 2023-18047 Filed 8-17-23; 4:15 pm]

BILLING CODE 3510-33-P